DEPARTMENT OF COMMERCE

National Oceanic and Atmospheric Administration

RIN 0648-XD527

Marine Mammals; File No. 18638 and 17305

AGENCY: National Marine Fisheries Service (NMFS), National Oceanic and Atmospheric Administration (NOAA), Commerce.

ACTION: Notice; issuance of permit.

SUMMARY: Notice is hereby given that scientific research permits have been issued to the following entities for the collection, import and export of marine mammal specimens:

File No. 18638: National Marine Mammal Laboratory (NMML, Dr. John Bengtson, Responsible Party), 7600 Sand Point Way NE., Seattle, WA 98115; and

File No. 17305: Alliance of Marine Mammal Parks and Aquariums, 218 N. Lee Street, Suite 200, Alexandria, Virginia 22314 (Kathleen Dezio, Responsible Party).

ADDRESSES: The permits and related documents are available for review upon written request or by appointment in the Permits and Conservation Division, Office of Protected Resources, NMFS, 1315 East-West Highway, Room 13705, Silver Spring, MD 20910; phone: (301) 427-8401; fax: (301) 713-0376.

FOR FURTHER INFORMATION CONTACT: Jennifer Skidmore or Amy Sloan; phone: (301) 427-8401.

SUPPLEMENTARY INFORMATION: On October 30, 2014, notice was published in the Federal Register (79 FR 64571) that requests for permits to import marine mammal specimens for scientific research had been submitted by the above-named applicants. The requested permits have been issued under the authority of the Marine Mammal Protection Act of 1972, as amended (16 U.S.C. 1361 et seq.), the regulations governing the taking and importing of marine mammals (50 CFR part 216), the Endangered Species Act of 1973, as amended (ESA; 16 U.S.C. 1531 et seq.), the regulations governing the taking, importing, and exporting of endangered and threatened species (50 CFR parts 222-226), and the Fur Seal Act of 1966, as amended (16 U.S.C. 1151 et seq.).

Permit No. 18638 authorizes NMML to collect specimens from dead cetacean and pinniped species, and to receive, import, and export specimens taken legally worldwide. Samples (up to 100,000 individuals from each taxa group) would be archived, transported, shared, and analyzed by researchers in order to optimize the amount of biological information gained from each animal. No takes of live animals are authorized. This permit expires on December 31, 2019.

Permit No. 17305 authorizes The Alliance of Marine Mammal Parks and Aquariums to receive, import and export samples (hard and soft parts) from all species of marine mammals (pinnipeds except walrus, and cetaceans) under the jurisdiction of the NMFS. Specimens and parts would come from individual animals (up to 700 cetaceans and 400 pinnipeds) already taken under separate authorization. No takes of live animals are authorized. This permit expires on January 31, 2020.

In compliance with the National Environmental Policy Act of 1969 (42 U.S.C. 4321 et seq.), a final determination has been made that the activities proposed are categorically excluded from the requirement to prepare an environmental assessment or environmental impact statement.

As required by the ESA, issuance of these permits was based on a finding that such permit: (1) Was applied for in good faith; (2) will not operate to the disadvantage of such endangered species; and (3) is consistent with the purposes and policies set forth in section 2 of the ESA.

Dated: February 4, 2015.
Perry F. Gayaldo,
Deputy Director, Office of Protected Resources, National Marine Fisheries Service.

[FR Doc. 2015-02609 Filed 2-9-15; 8:45 am]

BILLING CODE 3510-22-P